DEPARTMENT OF LABOR

Employment and Training Administration

[TA-W-50,949]

Caterpillar, Inc., Leland Transmission Facility, Leland, NC; Notice of Termination of Investigation

Pursuant to Section 221 of the Trade Act of 1974, as amended, an investigation was initiated on February 24, 2003, in response to a worker petition filed by a company official on behalf of workers at Caterpillar, Inc., Leland Transmission Facility, Leland, North Carolina.

The petitioner has requested that the petition be withdrawn. Consequently, the investigation has been terminated.

Signed at Washington, DC, this 10th day of March 2003.
Richard Church,
Certifying Officer, Division of Trade Adjustment Assistance.

[FR Doc. 03-7912 Filed 4-1-03; 8:45 am]

BILLING CODE 4510-30-U